NATIONAL CREDIT UNION ADMINISTRATION

Sunshine Act Meeting; Notice of Meetings

TIME AND DATE: 10 a.m., Thursday, September 7, 2000.

PLACE: Board Room, 7th Floor, Room 7047, 1775 Duke Street, Alexandria, VA 22314-3428.

STATUS: Open

MATTERS TO BE CONSIDERED: 1. Request from Three (3) Federal Credit Unions to Convert to Community Charters.

2. Missouri Member Business Loan Rule.

3. Request from a Corporate Credit Union to Convert to a Federally-Chartered Corporate Credit Union, with a National Field to Membership.

4. Appeal from a Federal Credit Union of the Regional Director's Denial of a Field of Membership Expansion Request.

5. Appeals from Two (2) Federal Credit Unions of the Regional Directors' Denials of Conversion from a Multiple Common Bond to a Community Charter.

6. Advanced Notice of Proposed Rulemaking: Part 741, NCUA's Rules and Regulations, Overseas Branching by Federally-Insured, State-Chartered Credit Unions.

7. Final Rule: Sections 709.10 and 709.11, NCUA's Rules and Regulations, Treatment of Certain Funds in Conservatorship or Liquidation.

RECESS: 11:15 a.m.

TIME AND DATE: 11:30 a.m., Thursday, September 7, 2000.

PLACE: Board Room, 7th Floor, Room 7047, 1775 Duke Street, Alexandria, VA 22314-3428.

STATUS: Closed

MATTERS TO BE CONSIDERED:

1. Administrative Action under Section 206 of the Federal Credit Union Act. Closed pursuant to exemptions (8), (9)(A)(ii), and (9)(B).

2. Two (2) Administrative Actions under Part 704 of NCUA's Rules and Regulations. Closed pursuant to exemption (8).

3. Field of Membership Appeal. Closed pursuant to exemptions (8) and (9)(A)(ii).

4. Three (3) Personnel Matters. Closed pursuant to exemptions (2) and (6).

FOR FURTHER INFORMATION CONTACT: Becky Baker, Secretary of the Board, Telephone 703-518-6304.

Becky Baker,
Secretary of the Board.

[FR Doc. 00-22868 Filed 8-31-00; 4:46 pm]

BILLING CODE 7535-01-M